DEPARTMENT OF TRANSPORTATION

Federal Highway Administration

[FHWA Docket No. FHWA-2019-0011]

Notice of Meeting

AGENCY: Federal Highway Administration (FHWA), U.S. Department of Transportation.

ACTION: Notification of Tribal Government-to-Government Consultation

SUMMARY: The FHWA announces that it is holding Tribal consultation meetings in Washington, District of Columbia; San Diego, California; Tulsa, Oklahoma; and Anchorage, Alaska, to gather federally recognized Tribal governments' comments on the Tribal Technical Assistance Program (TTAP) pilot before securing long-term services for the program.

DATES: The Tribal Consultation meeting dates are as follows:

1. Thursday, June 20, 2019, 1:00 p.m. to 4:00 p.m. (CST), Oklahoma City, Oklahoma.

2. Tuesday, June 25, 2019, 8:30 a.m. to 11:30 a.m. (PST), Reno, Nevada.

3. Tuesday, July 9, 2019, 1:00 p.m. to 4:00 p.m. (AKST), Anchorage, Alaska.

4. Thursday July 11, 2019, 1:00 p.m. to 4:00 p.m. (CST), Bloomington, Minnesota.

ADDRESSES:

1. The Tribal Consultation meeting in Oklahoma City, Oklahoma, will be held at the Association of Central Oklahoma Governments, 4205 N Lincoln Blvd., Oklahoma City, OK 73105.

2. The Tribal Consultation meeting in Reno, Nevada, will be held at the Hyatt Place Reno-Tahoe Airport, 1790 East Plumb Lane, Reno, NV 89502.

3. The Tribal Consultation meeting in Anchorage, Alaska, will be held at the Department of Transportation, Federal Aviation Administration, 222 W 7th Avenue, Anchorage, AK 99513.

4. The Tribal Consultation meeting in Bloomington, Minnesota, will be held at the U.S. Fish & Wildlife Service, 5600 American Boulevard West, Bloomington, MN 55437-1458.

The FHWA welcomes the opportunity to engage in consultation on the TTAP pilot. In addition to the consultation sessions listed above, you may submit written comments by July 19, 2019. All comments must be identified by agency and docket number and sent by one of the following methods:

Fax: 1-202-493-2251.

Mail: Docket Management Facility, U.S. Department of Transportation, West Building Ground Floor, Room W12-140, 1200 New Jersey Avenue SE, Washington, DC 20590-0001.

Federal Rulemaking Portal: http://www.regulations.gov. Follow the online instructions for submitting comments.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Victoria Peters, Office of Innovative Program Delivery, Federal Highway Administration, Victoria.Peters@dot.gov, or (720) 963-3522.

SUPPLEMENTARY INFORMATION:

Background

The TTAP's objective, as described in the legislation that authorizes the program, is to provide training and technical assistance to Tribal governments so they can develop and expand their ability to build, maintain, and operate the highway transportation networks that serve them. This includes professional capacity building in core functional areas such as pavements, bridges, concrete structures, intermodal connections, safety management systems, intelligent transportation systems, incident response, operations, and traffic safety countermeasures. It also includes providing Tribal governments the opportunity to explore and implement new technologies and practices.

To accomplish this objective, TTAP provides a comprehensive portfolio of training that is in-person and on-demand/virtual from multiple sources, on-call technical assistance, website resources, newsletters, peer resources, and access to innovative practices and technologies.

The TTAP is currently in the evaluation phase of a delivery model that: (1) Consolidates the administrative function; (2) focuses the training on the core functions needed to build, maintain, and operate a highway transportation network; (3) expands the availability and geographic equity of the types of training and technical assistance the TTAP offers; (4) diversifies the training options to augment in-person training and technical assistance with on-line/on-demand training and ready access to subject matter experts to shorten problem resolution response times; and, (5) increases the frequency and range of technology and practice innovations that are introduced to and promoted with the Tribes. The FHWA is interested in Tribal input on these improvements to TTAP.

Tribal Consultation Meetings

The purpose of these Tribal consultations is to assist FHWA with gathering information on the services provided by the 2018-2019 pilot program to guide FHWA's evaluation process before securing a long-term contract for the program. The FHWA requests that the comments focus on the subject matter, quality, quantity and availability of the training and technical assistance provided to the Tribes under the 2018-2019 pilot program and general issues as they pertain to TTAP.

The FHWA will consider all oral and written comments received during the consultation meetings as part of its decision-making process. The FHWA officials may ask questions to seek clarity or further explanation of the comments. The FHWA requests that commenters do not raise issues pertaining to other programs. Tribal representatives are encouraged to provide a written copy of their comments at the meeting or using the methods described above by July 5, 2019. The FHWA will accept written material that the presenter wishes to provide that further supplements his or her testimony. Electronic or digitized copies are encouraged.

The FHWA will adjourn a Tribal consultation meeting early if all attendees intending to speak have delivered their comments. The FHWA will summarize in a letter to Tribal governments the comments received and indicate how Tribal input was considered in the final action. The letter will constitute formal follow-up notification and will be entered as the date Tribal consultation ended.

Respondents

The Consultation Sessions will prioritize the Government-to-Government discussion and will provide elected or appointed leaders of Tribal governments or their designated representatives first opportunity to comment. Other representatives of Tribal governments, Tribal organizations, and members of the public may offer comment after official Tribal representatives.

Information on Service for Individuals With Disabilities

For information on facilities or services for individuals with disabilities or to request special assistance at the Tribal consultation meeting, contact Victoria Peters at the telephone number or email address indicated under the FOR FURTHER INFORMATION CONTACT section of this notice.

Issued on: May 13, 2019.
Brandye L. Hendrickson,
Deputy Administrator.

[FR Doc. 2019-10309 Filed 5-16-19; 8:45 am]

BILLING CODE 4910-22-P